SOCIAL SECURITY ADMINISTRATION

Agency Information Collection Activities; Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, DCRDP, Attn: Reports Clearance Director, 107 Altmeyer Building, 6401 Security Blvd., Baltimore, MD 21235, Fax: 410-966-2830, Email address: OR.Reports.Clearance@ssa.gov.

I. The information collections below are pending at SSA. SSA will submit them to OMB within 60 days from the date of this notice. To be sure we consider your comments, we must receive them no later than August 2, 2013. Individuals can obtain copies of the collection instruments by writing to the above email address.

1. Certificate of Coverage Request—20 CFR 404.1913—0960-0554. The United States has agreements with 24 foreign countries to eliminate double Social Security coverage and taxation where, except for the provisions of the agreement, a worker would be subject to coverage and taxes in both countries. These agreements contain rules for determining the country under whose laws the worker's period of employment is covered, and to which country the worker will pay taxes. The agreements further dictate that, upon the request of the worker or employer, the country under whose system the period of work is covered will issue a certificate of coverage. The certificate serves as proof of exemption from coverage and taxation under the system of the other country. The information we collect assists us in determining a worker's coverage and in issuing a U.S. certificate of coverage as appropriate. Per our agreements, we ask a set number of questions to the workers and employers prior to issuing a certificate of coverage; however, our agreements with Denmark, Netherlands, Norway, and Sweden require us to ask more questions in those countries. Respondents are workers and employers wishing to establish exemption from foreign Social Security taxes. Type of Request: Revision of an OMB-approved information collection.

Modality of completion | Number of respondents | Frequency of response | Average burden per response (minutes) | Estimated annual burden (hours)
Requests via Letter—Individuals (minus Denmark, Netherlands, Norway, & Sweden) | 5,320 | 1 | 40 | 3,547
Requests via Internet—Individuals (minus Denmark, Netherlands, Norway, & Sweden) | 7,979 | 1 | 40 | 5,319
Requests via Letter—Individuals in Denmark, Netherlands, Norway, & Sweden | 280 | 1 | 44 | 205
Requests via Internet—Individuals in Denmark, Netherlands, Norway, & Sweden | 421 | 1 | 44 | 309
Requests via Letter—Employers (minus Denmark, Netherlands, Norway, & Sweden) | 21,279 | 1 | 40 | 14,186
Requests via Internet—Employers (minus Denmark, Netherlands, Norway, & Sweden) | 31,920 | 1 | 40 | 21,280
Requests via Letter—Employers in Denmark, Netherlands, Norway, & Sweden | 1,121 | 1 | 44 | 822
Requests via Internet—Employers in Denmark, Netherlands, Norway, & Sweden | 1,680 | 1 | 44 | 1232
Totals | 70,000 |  |  | 46,900

2. Request for Accommodation in Communication Method—45 CFR 85.51—0960-0777. SSA allows blind or visually impaired Social Security applicants, beneficiaries, recipients, and representative payees to choose one of seven alternative methods of communication they want SSA to use when we send them benefit notices and other related communications. The seven alternative methods we offer are: (1) Standard print notice by first-class mail; (2) standard print mail with a follow-up telephone call; (3) certified mail; (4) Braille; (5) Microsoft Word file on data CD; (6) large print (18-point font); or (7) audio CD. However, respondents who want to receive notices from SSA through a communication method other than the seven methods listed above must explain their request to us. Those respondents use Form SSA-9000 to: (1) Describe the type of accommodation they want, (2) disclose their condition necessitating the need for a different type of accommodation, and (3) explain why none of the seven methods described above are sufficient for their needs. SSA uses Form SSA-9000 to determine, based on applicable law and regulation, whether to grant the respondents' requests for an accommodation based on their blindness, or other visual impairment. SSA collects this information electronically through either an in-person interview or a telephone interview during which the SSA employee keys in the information on Intranet screens. The respondents are blind or visually impaired Social Security applicants, beneficiaries, recipients, and representative payees and who ask SSA to send notices and other communications in an alternative method besides the seven modalities we currently offer.

Type of Request: Revision of an OMB-approved information collection

Modality of completion | Number of respondents | Frequency of response | Average burden per response (minutes) | Estimated annual burden (hours)
SSA-9000 | 619 | 1 | 20 | 206

II. SSA submitted the information collections below to OMB for clearance. Your comments regarding the information collections would be most useful if OMB and SSA receive them 30 days from the date of this publication. To be sure we consider your comments, we must receive them no later than July 3, 2013. Individuals can obtain copies of the OMB clearance packages by writing to OR.Reports.Clearance@ssa.gov.

1. Request to be Selected as a Payee—20 CFR 404.2010-404.2055, 416.601-416.665—0960-0014. An individual applying to be a representative payee for a Social Security beneficiary or Supplemental Security Income recipient must first complete Form SSA-11-BK. SSA obtains information from applicant payees regarding their relationship to the beneficiary; personal qualifications; concern for the beneficiary's well-being; and their intended use of benefits if appointed as payee. The respondents are individuals, private sector businesses and institutions, and State and local government institutions and agencies applying to become representative payees.

Type of Request: Revision of an OMB-approved information collection.

Modality of completion | Number of respondents | Frequency of response | Average burden per response (minutes) | Estimated annual burden (hours)
Individuals/Households (90%)
Representative Payee System (RPS) | 1,438,200 | 1 | 11 | 263,670
Paper Version | 91,800 | 1 | 11 | 16,830
Total | 1,530,000 |  |  | 280,500
Private Sector (9%)
Representative Payee System (RPS) | 149,940 | 1 | 11 | 27,489
Paper Version | 3,060 | 1 | 11 | 561
Total | 153,000 |  |  | 28,050
State/Local/Tribal Government (1%)
Representative Payee System (RPS) | 16,660 | 1 | 11 | 3054
Paper Version | 340 | 1 | 11 | 62
Total | 17,000 |  |  | 3,116
Grand Total | 1,700,000 |  |  | 311,666

2. Child Care Dropout Questionnaire—20 CFR 404.211(e)(4)—0960-0474. If individuals applying for title II disability benefits care for their own or their spouse's children under age 3 and have no steady earnings during that time period, they may exclude that period of care from the disability computation period. We call this the child-care dropout exclusion. SSA uses the information from Form SSA-4162 to determine if an individual qualifies for this exclusion. Respondents are applicants for title II disability benefits.

Type of Request: Revision of an OMB-approved information collection.

Modality of completion | Number of respondents | Frequency of response | Average burden per response (minutes) | Estimated annual burden (hours)
SSA-4162 | 2,000 | 1 | 5 | 167

3. Beneficiary Recontact Form—20 CFR 404.703, 404.705—0960-0502. SSA investigates recipients of disability payments to determine their continuing eligibility for payments. Research indicates recipients may fail to report circumstances that affect their eligibility. Two such cases are: (1) When parents receiving disability benefits for their child marry; and (2) the removal of an entitled child from parents' care. SSA uses Form SSA-1588-OCR-SM to ask mothers or fathers about their marital status and children currently in their care to detect overpayments and avoid continuing payment to those no longer entitled. Respondents are recipients of mothers' or fathers' Social Security benefits.

Type of Request: Revision of an OMB-approved information collection.

Modality of completion | Number of respondents | Frequency of response | Average burden per response (minutes) | Estimated annual burden (hours)
SSA-1588-OCR-SM | 171,506 | 1 | 5 | 14,292

Dated: May 29, 2013.
Faye Lipsky,
Reports Clearance Director, Social Security Administration.

[FR Doc. 2013-13028 Filed 5-31-13; 8:45 am]

BILLING CODE 4191-02-P